DEPARTMENT OF COMMERCE

National Oceanic and Atmospheric Administration

[I.D. 070102G]

Endangered Species; File No. 1389

AGENCY: National Marine Fisheries Service (NMFS), National Oceanic and Atmospheric Administration (NOAA), Commerce.

ACTION: Receipt of application.

SUMMARY: Notice is hereby given that Dr. Stephen J. Morreale, Department of Natural Resources, Cornell University, Ithaca, NY 14853, has applied in due form for a permit to take loggerhead turtles (Caretta caretta), Kemp’s ridley turtles (Lepidochelys kempii), green turtles (Chelonia mydas), and Leatherback turtles (Dermochelys coriacea) for purposes of scientific research.

DATES: Written or telefaxed comments must be received on or before August 12, 2002.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Lillian Becker or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of this research is to re-institute a long-term mark-recapture study in order to monitor the population levels and health status of sea turtles inhabiting the Long Island Sound and Peconic Bay Estuaries. The turtles will be captured in pound nets then flipper and PIT tagged, blood sampled, biopsied, and released near their capture site. The researcher requests to be able to take 126 loggerhead, 52 Kemp’s ridley, 45 green and 3 leatherback sea turtles.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: July 8, 2002.
Eugene T. Nitta,
Acting Chief, Permits, Conservation and Education Division, Office of Protected Resources, National Marine Fisheries Service.

[FR Doc. 02-17561 Filed 7-11-02; 8:45 am]

BILLING CODE 3510-22-S